DEPARTMENT OF ENERGY

Federal Energy Regulatory Commission

[Project No. 2503-085—South Carolina]

Duke Power, a Division of Duke Energy Corporation; Notice of Availability of Environmental Assessment

April 11, 2006.

In accordance with the National Environmental Policy Act of 1969 and the Federal Energy Regulatory Commission's (Commission) regulations, 18 CFR part 380 (Order No. 486, 52 FR 47897), the Office of Energy Projects has reviewed an application for non-project use of project lands and waters at the Keowee-Toxaway Hydroelectric Project (FERC No. 2503), and has prepared an environmental assessment (EA) for the proposed non-project use. Duke Power is the licensee for the project. The project is located on the Little and Keowee Rivers in Oconee County, South Carolina.

In the application, Duke Power requests Commission authorization to lease to the Waterford Communities Owners Association and Crescent Communities S.C., LLC 6.54 acres of project land for a commercial/residential marina. The proposed marina would consist of: (1) Three cluster docks with eight boat docking locations each, and one cluster dock with six boat docking locations for Waterford Ridge; (2) one cluster dock with fourteen boat docking locations, and two cluster docks with eight boat docking locations each for Waterford Farms; and (3) nine cluster docks with ten boat docking locations each for Waterford Pointe. The marina's docks would provide a total of 150 boat docking locations for the residents of the Waterford Communities. The EA contains the Commission staff's analysis of the probable environmental impacts of the proposal, and concludes that approving the licensee's application, with staff's recommended environmental measures, would not constitute a major Federal action significantly affecting the quality of the human environment.

The EA is attached to a Commission order titled “Order Modifying and Approving Non-Project Use of Project Lands and Waters,” which was issued April 7, 2006, and is available for review and reproduction at the Commission's Public Reference Room, located at 888 First Street, NE., Room 2A, Washington, DC 20426. The EA may also be viewed on the Commission's Web site at http://www.ferc.gov using the “elibrary” link. Enter the dock number (prefaced by P-), excluding the last three digits, in the docket number field to access the document. For assistance, contact FERC Online Support at FERCOnlineSupport@ferc.gov or toll-free at (866) 208-3676, or for TTY, contact (202) 502-8659.

Magalie R. Salas,
Secretary.

[FR Doc. E6-5731 Filed 4-17-06; 8:45 am]

BILLING CODE 6717-01-P